DEPARTMENT OF THE INTERIOR

Bureau of Land Management

[LLCAD06000-L14300000-ET0000; CACA 43949]

Notice of Proposed Withdrawal, Transfer of Jurisdiction, and Notice of Public Meeting; California

AGENCY: Bureau of Land Management, Interior.

ACTION: Correction.

SUMMARY: The Bureau of Land Management published in the Federal Register of December 31, 2003, a notice which contained an erroneous legal description.

DATES: Effective on November 17, 2010.

FOR FURTHER INFORMATION CONTACT: Liz Easley, 916-978-4673.

SUPPLEMENTARY INFORMATION: In notice document 03-32225, on page 75628 in the issue of Wednesday, December 31, 2003, make the following correction:

On page 75628 in the second column, contained in the legal description for T. 17 S., R. 5 E., “Sec. 25, W½ ” is corrected to read “Sec. 25, E½ ”.

Dated: November 10, 2010.
Karla D. Norris,
Associate Deputy State Director, Natural Resources (CA-930).

[FR Doc. 2010-28932 Filed 11-16-10; 8:45 am]

BILLING CODE 4310-40-P